DEPARTMENT OF HEALTH AND HUMAN SERVICES

Announcement of the President's Advisory Commission on Asian Americans, Native Hawaiians, and Pacific Islanders Meeting and Solicitation for Oral and Written Comments

AGENCY: Department of Health and Human Services, Office of the Secretary, Office of Intergovernmental and External Affairs, White House Initiative on Asian Americans, Native Hawaiians, and Pacific Islanders.

ACTION: Notice of meeting and solicitation for written and oral comments.

SUMMARY: The U.S. Department of Health and Human Services (HHS) announces the ninth public meeting of the President's Advisory Commission on Asian Americans, Native Hawaiians, and Pacific Islanders (Commission) and the solicitation of written and oral comment regarding the advancement of equity, justice, and opportunity for Asian American, Native Hawaiian, and Pacific Islander (AA and NHPI) communities. The meeting is open to the public and will be held in Saint Paul, Minnesota. Virtual attendance will be available through livestream on July 1 and in-person attendance will be available on July 2, 2024. The Commission is working to accomplish its mission to provide independent advice and recommendations to the President on ways to advance equity, justice, and opportunity for AA and NHPI communities.

DATES: The Commission will meet on July 1, 2024, from 11:00 a.m. Eastern Time (ET) to 5:00 p.m. ET and July 2, 2024, from 2:00 p.m. ET to 6:00 p.m. ET. The final location and agenda will be posted on the website for the President's Advisory Commission on Asian Americans, Native Hawaiians, and Pacific Islanders: https://www.hhs.gov/about/whiaanhpi/commission/index.html when this information becomes available.

ADDRESSES: Members of the public may attend the meeting virtually or in person, depending on the portion of the meeting. Registration is required through the following links:

July 1 meeting (virtual attendance only): https://www.eventbrite.com/e/meeting-of-the-presidents-advisory-commission-on-aa-and-nhpis-tickets-911468415567?aff=oddtdtcreator

July 2 public listening session (in-person attendance only): https://www.eventbrite.com/e/presidents-advisory-commission-on-aa-and-nhpis-listening-session-tickets-911482939007?aff=oddtdtcreator

FOR FURTHER INFORMATION CONTACT: Judith Teruya, Lead Designated Federal Officer, President's Advisory Commission on Asian Americans, Native Hawaiians, and Pacific Islanders, U.S. Department of Health and Human Services, Office of the Secretary, Office of Intergovernmental and External Affairs, U.S. Department of Health and Human Services, Hubert Humphrey Building, 620E, 200 Independence Ave. SW, Washington, DC 20201; email: AANHPICommission@hhs.gov; telephone: (202) 951-0235.

SUPPLEMENTARY INFORMATION:

Background: The meeting is the ninth in a series of federal advisory committee meetings regarding the development of recommendations to advance equity, justice, and opportunity for AA and NHPI communities. The meeting is open to the public and will be live streamed. The Commission, co-chaired by U.S. Health and Human Services Secretary Xavier Becerra and the U.S. Trade Representative Ambassador Katherine Tai, advises the President on: the development, monitoring, and coordination of executive branch efforts to advance equity, justice, and opportunity for AA and NHPI communities in the United States, including efforts to close gaps in health, socioeconomic, employment, and educational outcomes; policies to address and end anti-Asian bias, xenophobia, racism, and nativism, and opportunities for the executive branch to advance inclusion, belonging, and public awareness of the diversity and accomplishments of AA and NHPI people, cultures, and histories; policies, programs, and initiatives to prevent, report, respond to, and track anti-Asian hate crimes and hate incidents; ways in which the Federal Government can build on the capacity and contributions of AA and NHPI communities through equitable Federal funding, grantmaking, and employment opportunities; policies and practices to improve research and equitable data disaggregation regarding AA and NHPI communities; policies and practices to improve language access services to ensure AA and NHPI communities can access Federal programs and services; and strategies to increase public- and private-sector collaboration, and community involvement in improving the safety and socioeconomic, health, educational, occupational, and environmental well-being of AA and NHPI communities.

Information is available on the President's Advisory Commission on Asian Americans, Native Hawaiians, and Pacific Islanders website at https://www.hhs.gov/about/whiaanhpi/commission/index.html. The names of the members of the President's Advisory Commission on Asian Americans, Native Hawaiians, and Pacific Islanders are available at https://www.hhs.gov/about/whiaanhpi/commission/commissioners/index.html.

Purpose of Meeting: The President's Advisory Commission on Asian Americans, Native Hawaiians, and Pacific Islanders, authorized by Executive Order 14031, as amended by Executive Order 14109, will meet to discuss recommendations by the Commission's six subcommittees on ways to advance equity, justice, and opportunity for Asian American, Native Hawaiian, and Pacific Islander communities. The subcommittees are: Belonging, Inclusion, Anti-Asian Hate, Anti-Discrimination; Data Disaggregation and Education; Economic Equity; Health Equity; Immigration and Citizenship Status; and Language Access and Communications.

Public Participation at Meeting: Members of the public may attend the meeting virtually and the public listening session in person. Registration is required through the following links:

July 1 (virtual attendance only): https://www.eventbrite.com/e/meeting-of-the-presidents-advisory-commission-on-aa-and-nhpis-tickets-911468415567?aff=oddtdtcreator

July 2 public listening session (in-person attendance only): https://www.eventbrite.com/e/presidents-advisory-commission-on-aa-and-nhpis-listening-session-tickets-911482939007?aff=oddtdtcreator

Written public comments: Written comments are welcomed throughout the development of the Commission's recommendations to promote equity, justice, and opportunity for Asian Americans, Native Hawaiians, and Pacific Islanders and may be emailed to AANHPICommission@hhs.gov at any time. Respond concisely and in plain language. You may use any structure or layout that presents your information well. You may respond to some or all of the questions, and you can suggest other factors or relevant questions for the Commission to consider. You may also include links to online material or interactive presentations. Clearly mark any proprietary information and place it in its own section or file. Your response will become government property, and non-proprietary content may be published as public record.

Oral public comments: Individuals may submit a request to make an oral public comment at the July 2, 2024, meeting in response to the questions below. Advance copy of oral public comment must be sent via email to AANHPICommission@hhs.gov with the subject line “PACAANHPI: In-person Response to <insert the issue and question>” no later than 11:59 p.m. ET on Monday, June 24, 2024. Submissions received after the deadline will not be considered for oral public comment. Your submitted oral comment will become government property and may be published as part of the meeting record.

Registration for oral public comment is on a first-come, first-served basis. Comments are limited to two (2) minutes or less per person. After the maximum number of speakers is exceeded, individuals registered to provide oral comment will be placed on a wait list and notified should an opening become available. You will be notified via email no later than June 28, 2024, if you have been identified to provide in-person public comment.

The Commission is interested in soliciting comments on the following questions:

1. Belonging, Inclusion, Anti-Asian Hate, Anti-Discrimination Subcommittee Questions:

a. What policies, programs, models, or best practices, if any, have reduced incidents of gun violence in AA and NHPI communities?

b. Please describe how you, your family, or community members have experienced online anti-AANHPI harassment or bullying, and what recommendations you would propose to address such harassment or bullying.

2. Data Disaggregation and Education Subcommittee Questions:

a. What obstacles do AA and NHPI communities face regarding data and the status of educational programs?

3. Economic Equity Subcommittee Questions:

a. What are the challenges that AA and NHPI farmers are facing in Minnesota? What federal resources (e.g., loans, marketplace access, education, grants, and more) could be improved to assist farmers?

b. What challenges did you face in accessing federal resources as an AA and NHPI business? Or what went well in your process of accessing federal resources? Where did you access information about these federal resources?

c. Has discrimination or anti-immigrant sentiment impacted the economic growth of the AA and NHPI community in Minnesota?

4. Health Equity Subcommittee Questions:

a. What health concerns, including mental health and Artificial Intelligence (AI) bias, are impacting your community, and what are some of the ways communities are trying to address these challenges?

b. What are the perceived advantages and disadvantages of AI in your lives?

5. Immigration and Citizenship Status Subcommittee Questions:

a. Are you, or individuals you know, afraid to utilize public resources (e.g., federal benefit programs) because you believe it will impact your immigration status? Please explain in detail. What can the government do to decrease concerns with accessing federal benefits?

b. What are the top three priorities or concerns you have about the U.S. immigration system that impacts Asian and Pacific Islander communities?

6. Language Access Subcommittee Questions:

a. How can the Federal Government promote the preservation, teaching, learning of, maintenance, and utilization of Asian, Native Hawaiian, and Pacific Islander languages?

b. Are there any programs you recommend the Commission examine that provide meaningful language access to government benefits and services to individuals with limited English proficiency?

Authority: Executive Order 14031 as amended by Executive Order 14109. The President's Advisory Commission on Asian Americans, Native Hawaiians, and Pacific Islanders is governed by provisions of the Federal Advisory Committee Act, Public Law 92-463, as amended (5 U.S.C. App.), which sets forth standards for the formation and use of Federal advisory committees.

Krystal Ka'ai
Executive Director, White House Initiative on Asian Americans, Native Hawaiians, and Pacific Islanders, President's Advisory Commission on Asian Americans, Native Hawaiians, and Pacific Islanders

[FR Doc. 2024-12292 Filed 6-4-24; 11:15 am]

BILLING CODE 4153-03-P